DEPARTMENT OF HOMELAND SECURITY

Transportation Security Administration

[Docket No. TSA-2006-25335]

RIN 1652-AZ08

Privacy Act of 1974: System of Records; National Finance Center (NFC) Payroll Personnel System

Correction

In notice document E6-11235 beginning on page 40530 in the issue of Monday, July 17, 2006, make the following correction:

On page 40532, in the third column, in the signature block, the signature date “Issued in Arlington, Virginia.” should read “Issued in Arlington, Virginia, July 11, 2006”.

[FR Doc. Z6-11235 Filed 7-28-06; 8:45 am]

BILLING CODE 1505-01-D

DEPARTMENT OF TRANSPORTATION

Federal Motor Carrier Safety Administration

[Docket No. FMCSA-2005-23459]

Hours of Service of Drivers: National Ready Mixed Concrete Association Application for Exemption

Correction

In notice document E6-11289 beginning on page 40778 in the issue of Tuesday, July 18, 2006 make the following correction:

On page 40780, in the first column, in the signature block, the signature title “Acting Administration” should read “Acting Administrator”.

[FR Doc. Z6-11289 Filed 7-28-06; 8:45 am]

BILLING CODE 1505-01-D